DEPARTMENT OF VETERANS AFFAIRS

Advisory Committee on the Readjustment of Veterans, Notice of Meeting

The Department of Veterans Affairs (VA) gives notice under the Federal Advisory Committee Act, 5 U.S.C. ch. 10., that the Advisory Committee on the Readjustment of Veterans will meet in person on November 5, 2024-November 6, 2024 at the Lafayette Building, 811 Vermont Avenue NW, Conference Room 3166, Washington, DC 20009. The sessions will begin and end as follows:

Dates | Times
Tuesday, November 5, 2024 | 8 a.m. to 5 p.m. eastern standard time (EST).
Wednesday, November 6, 2024 | 8 a.m. to 5 p.m. EST.

The meeting sessions are open to the public.

The purpose of the Committee is to advise the VA regarding the provision by VA of benefits and services to assist Veterans in the readjustment to civilian life. The Committee, comprised of 14 subject matter experts, advises the Secretary through the VA Readjustment Counseling Service. In carrying out this duty, the Committee shall take into account the needs of Veterans who served in combat theaters of operation.

On November 5, 2024, and November 6, 2024, the Committee will meet to assemble, review, and assess information relating to the needs of Veterans readjusting to civilian life and the effectiveness of VA services in assisting Veterans in that readjustment. They will also receive updated briefings on various VA programs to further their ability to discuss and explore potential recommendations to be included in the next annual report.

Time will be allotted for the public to provide comments starting at 4 p.m. EST and ending no later than 4:30 p.m. EST. The comment period may end sooner, if there are no comments presented or they are exhausted before the end time. Individuals interested in providing comments during the public comment period are allowed no more than three minutes for their statements. Additionally, the Committee will accept written comments from interested parties on issues outlined in the meeting agenda or other issues regarding the readjustment of Veterans. Parties should contact Mr. Joshua Mathis, via email at Joshua.Mathis@va.gov or by mail at Department of Veterans Affairs, Readjustment Counseling Service (10RCS), 810 Vermont Avenue, Washington, DC 20420.

Any member of the public seeking additional information should contact Mr. Mathis at the email address noted above.

Dated: October 2, 2024.
Jelessa M. Burney,
Federal Advisory Committee Management Officer.

[FR Doc. 2024-23169 Filed 10-7-24; 8:45 am]

BILLING CODE 8320-01-P